DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following pending patents. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

11/700,970, “Interim dental dressing and restorative material”, filed on January 24, 2007, Inventors: Amer Tiba, David Charlton, and James Ragain; 11/726,203, “Method for the detection of target molecules by fluorescence polarization using peptide mimics”, filed on March 13, 2007, Inventors: Malford Cullum, Karen O'Connor;11/789,122, “Recombinant antigens for diagnosis and prevention of murine typhus”, filed on April 19, 2007, Inventor: Wei Mei Ching; 11/800,955, “Secreted campylobacter flagella coregulated proteins as immunogens”, filed on May 8, 2007, Inventor: Pat Guerry; 11/800,948, “Multifunctional blood substitute (MBS)”, filed on May 8, 2007, Inventor: Daniel Freilich; 11/881,498, “Recombinant antigens for diagnosis and prevention of murine typhus (Murine typhus Ompb derived A and K fragments (similar to r56))”, filed on July 27, 2007, Inventor: Wei Mei Ching; 11/839,922, “Vascular shunt created from ptfe (polytetrafluoroethylene) or other novel non-coagulative materials”, filed on August 16, 2007, Inventor: H.D. Elshire; 11/842,438, “Methods for protecting against lethal infection with bacillus anthracis”, filed on August 21, 2007, Inventors: Darrell Galloway and Alfred Mateczun; 11/876,997, “Orientia tsutsugamushi truncated recombinant outer membrane protein (r47 and r57) vaccines diagnostics and therapeutics for scrub typhus and HIV infections”, filed on October 23, 2007, Inventors: Wei Mei Ching, Chien Chung Chao, and Hong Ge; 11/982,488, “Induction of an immune response against dengue virus using the prime-boost approach”, filed on November 2, 2007, Inventors: Monika Simmons, and Kevin Porter; 11/942,402, “Methods for protection against lethal infection with bacillus anthracis”, filed on November 19, 2007, Inventors: Darrell Galloway and Alfred Mateczun; 11/942,343, “Methods for protection against lethal infection with bacillus anthracis”, filed on November 19, 2007, Inventors: Darrell Galloway And Alfred Mateczun; 12/001,599, “Identification of antigens for diagnosis and prevention of Q fever (recombinant antigens for the detection of coxiella burnetii)”, filed on December 11, 2007, Inventors: Wei Mei Ching and Chien Chung Chao; 12/001,598, “Identification of antigens for diagnosis and prevention of Q fever (recombinant antigens for the detection of coxiella burnetii),” filed on December 11, 2007, Inventors: Wei Mei Ching and Chien Chung Chao; 11/964,982, “Expression and refolding of truncated recombinant major outer membrane protein antigen (R56) of orientia tsutsugamushi and its use in antibody based detection assays and vaccines”, filed on December 27, 2007, Inventors: Wei Mei Ching, Gregory Dasch and Daryl Kelly; 11/965,004, “Expression and refolding of truncated recombinant major outer membrane protein antigen (R56) of orientia tsutsugamushi and its use in antibody based detection assays and vaccines,” filed on December 28, 2007, Inventors: Wei Mei Ching, Gregory Dasch, and Daryl Kelly; 11/971,433, “Adenoviral vector-based malaria vaccine”, filed on January 9, 2008, Inventors: Joseph Bruder, Richter King, Keith Limbach, Denise Doolan, and Tom Richie; 11/988,598, “Adhesin-enterotoxoid chimera vaccine for enterotoxigenic escherichia coli”, filed on January 10, 2008, Inventor: Stephen Savarino; 12/028,241, “RF diathermy and faradic muscle stimulation treatment,” filed on February 8, 2008, Inventors: James Bingham and Richard Olsen; 12/103,112, “Recycling container (to minimize release of HG vapor) for the collection and temporary storage of mercury contaminated wastes in the dental operatory,” filed on April 15, 2008, Inventors: Mark Stone, Ronald Karaway, and Denise Berry; 12/163,412, “Fluorescence polarization instruments and methods for detection of exposure to biological materials by fluorescence polarization immunoassay of saliva or oral fluid”, filed on June 27, 2008, Inventors: Malford Cullum, Linda Lininger, Ernest Pederson, Sylvia Schade, and Lloyd Simonson; 12/221,150, “Capsule composition for use as immunogen against campylobacter jejuni”, filed on July 25, 2008, Inventors: Pat Guerry and Mario Monteiro; 12/255,861, “Methods for treating HIV infected subjects”, filed on October 22, 2008, Inventors: Carl June, Craig Thompson, Gary Nabel, Gary Gray, and Paul Rennert; 12/064,554, “Adenoviral vector-based malaria vaccines”, filed on October 27, 2008, Inventors: Joseph Bruder, Imre Kovesdi, Richter King, Duncan Mcvey, Damodar Ettyreddy, Denise Doolan, Daniel Carucci, and Keith Limbach; 12/362,622, “Multifunctional acrylates used as cross-linkers in dental and biomedical self-etch bonding adhesives”, filed on January 30, 2009, Inventors: James Ragain, Amer Tiba, and David Charlton; 12/454,038, “Recombinant antigens for diagnosis and prevention of murine typhus”, filed on April 27, 2009, Inventor: Wei Mei Ching; 12/454,496, “Dengue virus detection measured by immunocytometry in a dendritic cell surrogate”, filed on April 27, 2009, Inventors: Timothy Burgess, Jeffrey Tjaden, Kevin Porter, and Mary Marovich; 12/467,533, “Recombinant chimeric antigens for diagnosis and prevention of scrub typhus”, filed on May 18, 2009, Inventors: Wei Mei Ching, and Chien Chung Chao; 12/480,290, “Recombinant antigens for diagnosis and prevention of spotted fever rickettsiae”, filed on June 8, 2009, Inventors: Wei Mei Ching and Hua-Wei Chin; 12/522,335, “Adenoviral vector-based malaria vaccines”, filed on July 7, 2009, Inventor: Joseph Bruder; 12/501,021, “Composition and method for the induction of immunity against bacillus cereus group bacteria”, filed on July 10, 2009, Inventors: Sanghamitra Mukhopadhyay and Timothy Read; 12/569,821, “Functional role of adrenomedullin (AM) and the gene related product (PAMP) in human pathology and physiology”, filed on September 29, 2009, Inventors: Frank Cuttitta, Alfredo Martinez, Mac Jean Miller, Edward Unsworth, William Hook, Thomas Walsh, Karen Gray, and Charles Macri; 12/634,119, “CCD contrast enhancement for in vivo oxygenation measurements”, filed on December 9, 2009, Inventors: Nicole Crane, Eric Elster, Doug Tadaki, Scott Huffman, and Ira Levin; 12/672,361, “Photoacoustic laser joulemeter utilizing beam deflection technique”, filed on February 5, 2010, Inventors: Sahir Maswadi, Norman Barsalou, Randolph Glickman, and Row Elliott; and their related foreign filings.

DATES: Applications for a non-exclusive, exclusive or partially exclusive license may be submitted at any time from the date of this notice.

ADDRESSES: Submit applications to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail at: charles.schlagel@med.navy.mil.

Dated: March 30, 2010.
A.M. Vallandingham,
Lieutenant Commander, Judge Advocate Generals Corps, U.S. Navy, Federal Register Liaison Officer.

[FR Doc. 2010-7731 Filed 4-5-10; 8:45 am]

BILLING CODE 3810-FF-P